DEPARTMENT OF HOMELAND SECURITY

Coast Guard

33 CFR Part 117

[CGD01-07-071]

Drawbridge Operation Regulations; Long Island, New York Inland Waterway From Rockaway Inlet to Shinnecock Canal, Atlantic Beach, NY

AGENCY: Coast Guard, DHS.

ACTION: Notice of temporary deviation from regulations.

SUMMARY: The Commander, First Coast Guard District, has issued a temporary deviation from the regulation governing the operation of the Atlantic Beach Bridge, mile 0.4, across Reynolds Channel at Atlantic Beach, New York. Under this temporary deviation a one-hour advance notice will be required for bridge openings between 7 a.m. and 3:30 p.m., Monday through Friday, from July 23, 2007 through August 3, 2007. This deviation is necessary to facilitate bridge steel deck grating replacement.

DATES: This deviation is effective from 7 a.m. on July 23, 2007 through 3:30 p.m. August 3, 2007.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: Judy Leung-Yee, Project Officer, First Coast Guard District, at (212) 668-7195.

SUPPLEMENTARY INFORMATION: The Atlantic Beach Bridge, across Reynolds Channel, mile 0.4, at Atlantic Beach, New York, has a vertical clearance in the closed position of 25 feet at mean high water and 30 feet at mean low water. The existing drawbridge operation regulations are listed at 33 CFR 117.799(e).

The owner of the bridge, Nassau County Bridge Authority, requested a temporary deviation to facilitate the replacement of steel deck grating at the bridge.

Under this temporary deviation, from July 23, 2007 through August 3, 2007, a one-hour advance notice for bridge openings shall be required between 7 a.m. and 3:30 p.m., Monday through Friday, at the Atlantic Beach Bridge, mile 0.4, across Reynolds Channel, at Atlantic Beach, New York. Notice may be given by calling the bridge tender on VHF channel 13, or by telephone at (516) 239-1821.

In accordance with 33 CFR 117.35(e), the bridge must return to its regular operating schedule immediately at the end of the designated time period. This deviation from the operating regulations is authorized under 33 CFR 117.35.

Dated: June 18, 2007.
Gary Kassof,
Bridge Program Manager, First Coast Guard District.

[FR Doc. E7-12372 Filed 6-26-07; 8:45 am]

BILLING CODE 4910-15-P